DEPARTMENT OF ENERGY

10 CFR Part 429

[Docket No. EERE-2011-BT-CE-0077]

Appliance Standards and Rulemaking Federal Advisory Committee: Notice of Membership of the Regional Enforcement Working Group

AGENCY: Office of Energy Efficiency and Renewable Energy, U.S. Department of Energy.

ACTION: Notice of membership.

SUMMARY: This notice announces the members of the working group to negotiate regional enforcement regulations of certain energy conservation standards, under the Appliance Standards and Rulemaking Federal Advisory Committee (ASRAC) in accordance with the Federal Advisory Committee Act (FACA) and the Negotiated Rulemaking Act (NRA). The purpose of the working group will be to discuss and, if possible, reach consensus on a proposed rule for the enforcement of certain regional energy conservation standards, as authorized by the Energy Policy and Conservation Act of 1975, as amended. The working group consists of representatives of parties having a defined stake in the outcome of the proposed regulations, and will consult as appropriate with a range of experts on technical issues.

DATES: An open meeting will be scheduled at a later date.

FOR FURTHER INFORMATION CONTACT: John Cymbalsky, ASRAC Designated Federal Officer, Supervisory Operations Research Analyst, U.S. Department of Energy (DOE), Office of Energy Efficiency and Renewable Energy, 950 L'Enfant Plaza SW., Washington, DC 20024. Telephone: (202) 287-1692. Email: asrac@ee.doe.gov.

SUPPLEMENTARY INFORMATION: Membership: The members of the Regional Enforcement Working Group were chosen from nominations submitted in response to the Department of Energy's call for nominations published in the Federal Register on June 13, 2014 in 79 FR 33870. The selections are designed to ensure a broad and balanced array of stakeholder interests and expertise on the negotiating working group for the purpose of developing a rule that is legally and economically justified, technically sound, fair to all parties, and in the public interest. All meetings are open to all stakeholders and the public, and participation by all is welcome within boundaries as required by the orderly conduct of business. The members of the Regional Enforcement Group are as follows:

DOE and ASRAC Representatives

• Douglas Rawald, DOE General Counsel

• Scott Harris, ASRAC and Harris, Wiltshire & Grannis LLP

• David Hungerford, ASRAC and California Energy Commission

Other Selected Members

• Timothy Ballo, Earthjustice

• Gary Clark, Goodman Global

• Jordan Doria, Ingersoll Rand

• Ray Ellis, Lincoln Electric Cooperative

• Gary Fernstrom, PG&E

• John Gibbons, Carrier Corporation

• Charlie Harak, National Consumer Law Center

• Glenn Hourahan, Air Conditioning Contractors of America

• Matthew Lattanzi, NORDYNE Inc.

• Karen Meyers, Rheem Manufacturing Company

• Elizabeth Noll, Natural Resources Defense Council

• Gregory Olson, Xcel Energy

• Steve Porter, Johnstone Supply

• Bryan Rocky, Johnson Controls

• Harvey Sachs, American Council for an Energy-Efficient Economy

• Amy Shepherd, Air-Conditioning, Heating, and Refrigeration Institute

• Charles White, Plumbing-Heating-Cooling Contractors—National Association

• Dave Winningham, Allied Air Enterprises, LLC

Docket: The docket is available for review at www.regulations.gov, including Federal Register notices, public meeting attendee lists and transcripts, comments, and other supporting documents/materials. All documents in the docket are listed in the www.regulations.gov index. However, not all documents listed in the index may be publicly available, such as information that is exempt from public disclosure.

The Secretary of Energy has approved publication of today's notice of proposed rulemaking.

Issued in Washington, DC, on July 8, 2014.
Kathleen B. Hogan,
Deputy Assistant Secretary for Energy Efficiency and Renewable Energy.

[FR Doc. 2014-16700 Filed 7-15-14; 8:45 am]

BILLING CODE 6450-01-P